DEPARTMENT OF HEALTH AND HUMAN SERVICES

Centers for Disease Control and Prevention

Guide to Community Preventive Services (GCPS) Task Force: Meeting

In accordance with section 10(a)(2) of the Federal Advisory Committee Act (Pub. L. 92-463), the Centers for Disease Control and Prevention CDC) announces the following meeting:

Name: Task Force on Community Preventive Services.

Times and Dates: 8 a.m.-6 p.m., June 22, 2005; 8 a.m.-1 p.m., June 23, 2005.

Place: Crowne Plaza Atlanta Buckhead 3377 Peachtree Road NE, Atlanta, Georgia 30326, telephone (404) 264-1111.

Status: Open to the public, limited only by the space available.

Purpose: The mission of the Task Force is to develop and publish a Guide to Community Preventive Services, which is based on the best available scientific evidence and current expertise regarding essential public health and what works in the delivery of those services.

Matters To Be Discussed: Agenda items include: briefings on administrative information, marketing plan and current efforts, update on evaluation of awareness of Community Guide, web-based abstraction form for systematic reviews, revision and web posting of the Community Guide protocol manual, discussion about home visitation programs for violence prevention. Considered reviews and possible recommendations for the following interventions: Violence prevention, including: Reducing the harmful consequences of trauma among juveniles, school violence prevention programs, worksite health promotion, including: Point-of-decision prompts to increase stair use: Incentives to stop using tobacco, and reducing environmental tobacco smoke; HIV risk reduction interventions; provider assessment and feedback to promote cancer screening.

Agenda items are subject to change as priorities dictate.

Contact Person or Additional Information: Peter Briss, M.D., Team Leader, Community Guide, Coordinating Center for Health Information and Service (CoCHIS), National Center for Health Marking, Division of Scientific Communication, 4770 Buford Highway, M/S K95, Atlanta, Georgia 770-488-8338. Persons interested in reserving a space for this meeting should call 770/488-8590 by close of business on June 21, 2005.

The Director, Management Analysis and Services Office, has been delegated the authority to sign Federal Register notices pertaining to announcements of meetings and other committee management activities, for both CDC and the Agency for Toxic Substances and Disease Registry.

Dated: June 14, 2005.
Alvin Hall,
Director, Management Analysis and Services Office, Centers for Disease Control and Prevention.

[FR Doc. 05-12062 Filed 6-17-05; 8:45 am]

BILLING CODE 4163-18-P